DEPARTMENT OF DEFENSE

GENERAL SERVICES ADMINISTRATION

NATIONAL AERONAUTICS AND SPACE ADMINISTRATION

[OMB Control No. 9000-0071; Docket No. 2019-0003; Sequence No. 1]

Information Collection; Price Redetermination

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a revision and renewal concerning price redetermination.

DATES: Submit comments on or before June 28, 2019.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0071, Price Redetermination.

Instructions: All items submitted must cite Information Collection 9000-0071, Price Redetermination, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Curtis E. Glover, Sr., Procurement Analyst, Office of Government-wide Acquisition Policy, GSA, 202-501-1448, or email curtis.glover@gsa.gov.

SUPPLEMENTARY INFORMATION:

A. Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

FAR 16.205, Fixed-price contracts with prospective price redetermination, provides for firm fixed prices for an initial period of the contract and prospective redetermination of the price, at stated times during performance, during subsequent periods of performance. Prospective price redetermination is used in negotiated contracts when it is possible to establish a firm fixed price for an initial period, but not for subsequent periods of contract performance. FAR clause 52.216-5, Price Redetermination-Prospective, is included in these solicitations and contracts and requires a contractor to submit to the Government—

• Within an agreed upon timeframe, (1) proposed prices for the upcoming contract period, (2) a statement of costs incurred for the most recent period of performance, and (3) any supporting or relevant documentation; and,

• During periods where firm prices have not been established, a quarterly statement that includes a breakdown of total contract prices, costs, and profit incurred and all invoices accepted for delivered items or services for which final prices have not been established.

FAR 16.206, Fixed price contracts with retroactive price redetermination, provides for a fixed ceiling price, and retroactive price redetermination within the ceiling after completion of the contract. Retroactive price redetermination is used in research and development contracts valued at $150,000 or less when a firm fixed price cannot be negotiated and the contract amount and short performance period make the use of any other fixed-price contract type impracticable. FAR clause 52.216-6, Price Redetermination—Retroactive, is included in these solicitations and contracts and requires contractors to submit to the Government—

• Within an agreed upon timeframe after completion of the contract, (1) the proposed prices, (2) all costs incurred in performing the contract, and (3) any supporting or relevant documentation; and,

• Until final price redetermination has been completed, a quarterly statement that includes a breakdown of total contract prices, costs, and interim profit incurred and all invoices accepted for delivered items.

Contracting officers use the information submitted by respondents to accurately determine the price adjustments to be made under the contract or order in accordance with the clause.

C. Annual Reporting Burden

Respondents: 33.

Responses per Respondent: 7.

Annual Responses: 232.

Hours per Response: 8.

Total Burden Hours: 1,856.

Affected Public: Business or other for-profit entities.

Obtaining Copies of Proposals: Requesters may obtain a copy of the information collection documents from the General Services Administration, Regulatory Secretariat Division (MVCB), 1800 F Street NW, Washington, DC 20405, telephone 202-501-4755. Please cite OMB Control No. 9000-0071, Price Redetermination, in all correspondence.

Dated: April 23, 2019.
Janet Fry,
Director, Federal Acquisition Policy Division, Office of Governmentwide Acquisition Policy, Office of Acquisition Policy, Office of Governmentwide Policy.

[FR Doc. 2019-08541 Filed 4-26-19; 8:45 am]

BILLING CODE 6820-EP-P